DEPARTMENT OF HEALTH AND HUMAN SERVICES

National Institutes of Health

Center for Scientific Review; Amended Notice of Meeting

Notice is hereby given of a change in the meeting of the Virology Study Section, February 24, 2004, 8:30 a.m. to February 25, 2004, 5 p.m. Governor's House Hotel, 1615 Rhode Island Avenue, NW., Washington, DC 20036 which was published in the Federal Register on January 27, 2004, 69 FR 3931-3934.

The meeting will be held at the Courtyard Marriott, Embassy Row, 1600 Rhode Island Avenue, Washington, DC 20036. The dates and time remain the same. The meeting is closed to the public.

Dated: February 6, 2004.
LaVerne Y. Stringfield,
Director, Office of Federal Advisory Committee Policy.

[FR Doc. 04-3175 Filed 2-12-04; 8:45 am]

BILLING CODE 4140-01-M